DEPARTMENT OF THE TREASURY

Agency Information Collection Activities; Submission for OMB Review; Comment Request; Multiple Financial Crimes Enforcement Network Information Collection Requests

AGENCY: Departmental Offices, Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before July 29, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

1. Title: Anti-Money Laundering Programs for Money Services Businesses, Mutual Funds, and Operators of Credit Card Systems.

OMB Control Number: 1506-0020.

Type of Review: Extension without change of a currently approved collection.

Description: Section 352 of the USA PATRIOT Act added subsection (h) to 31 U.S.C. 5318 of the BSA that requires the Secretary of the Treasury to require financial institutions to establish and maintain anti-money laundering (“AML”) programs. Pursuant to section 352, FinCEN issued regulations requiring money services businesses (“MSBs”), mutual funds, and operators of credit card systems to develop and implement a written AML program, respectively 31 CFR 1022.210, 31 CFR 1024.210, and 31 CFR 1028.210. The program must be reasonably designed to prevent these financial institutions from being used for money laundering or the financing of terrorist activities, and to achieve and monitor compliance with applicable BSA requirements.

Form: None.

Affected Public: Businesses or other for-profits.

Estimated Number of Respondents: 258,065.

Frequency of Response: On occasion.

Estimated Total Number of Annual Responses: 2,853,697.

Estimated Time per Response: Varies by activity from 2 minutes to 1 hour.

Estimated Total Annual Burden Hours: 159,982.

2. Title: Anti-Money Laundering Programs for Dealers in Precious Metals, Precious Stones, or Jewels.

OMB Control Number: 1506-0030.

Type of Review: Extension without change of a currently approved collection.

Description: Section 352 of the USA PATRIOT Act added subsection (h) to 31 U.S.C. 5318 of the BSA that requires the Secretary of the Treasury to require financial institutions to establish and maintain anti-money laundering (“AML”) programs. Pursuant to section 352, FinCEN issued regulations requiring dealers in precious metals, precious stones, or jewels to develop and implement a written AML program (31 CFR 1027.210). The program must be reasonably designed to prevent these financial institutions from being used for money laundering or the financing of terrorist activities, and to achieve and monitor compliance with applicable BSA requirements.

Form: None.

Affected Public: Businesses or other for-profits.

Estimated Number of Respondents: 6.700.

Frequency of Response: On occasion.

Estimated Total Number of Annual Responses: 6,700.

Estimated Time per Response: Varies by activity from five minutes to one hour.

Estimated Total Annual Burden Hours: 7,817.

3. Title: Anti-Money Laundering Programs for Insurance Companies, Non-Bank Residential Mortgage Lenders and Originators, and Banks Lacking a Federal Functional Regulator.

OMB Control Number: 1506-0035.

Type of Review: Extension without change of a currently approved collection.

Description: Section 352 of the USA PATRIOT Act added subsection (h) to 31 U.S.C. 5318 of the BSA that requires the Secretary of the Treasury to require financial institutions to establish and maintain anti-money laundering (“AML”) programs. Pursuant to section 352, FinCEN issued regulations requiring insurance companies and non-bank residential mortgage lenders and originators (“RMLOs”) to develop and implement a written AML program. The program must be reasonably designed to prevent these financial institutions from being used for money laundering or the financing of terrorist activities, and to achieve and monitor compliance with applicable BSA requirements.

On September 14, 2020, FinCEN issued a final rule implementing sections 352, 326 and 312 of the USA PATRIOT Act and removing the AML program exemption for banks that lack a Federal functional regulator, including, but not limited to, private banks, non-federally insured credit unions, and certain trust companies (the “Final Rule”). The Final Rule requires minimum standards for AML programs for banks without a Federal functional regulator to ensure that all banks, regardless of whether they are subject to Federal regulation and oversight, are required to establish and implement AML programs, and extends customer identification program requirements and beneficial ownership requirements to those banks not already subject to these requirements.

Form: None.

Affected Public: Businesses or other for-profits.

Estimated Number of Respondents: 18,278.

Frequency of Response: On occasion.

Estimated Total Number of Annual Responses: 18,278.

Estimated Time per Response: Varies by activity from five minutes to one hour.

Estimated Total Annual Burden Hours: 21,924.

Authority: 44 U.S.C. 3501 et seq.

Spencer W. Clark,
Treasury PRA Clearance Officer.

[FR Doc. 2024-14296 Filed 6-27-24; 8:45 am]

BILLING CODE 4810-02-P